DEPARTMENT OF HEALTH AND HUMAN SERVICES

Centers for Medicare and Medicaid Services

Delegation of Authority

Notice is hereby given that I have delegated to the Administrator of the Centers for Medicare and Medicaid Services, the following authority vested in the Secretary of Health and Human Services.

Subpoenas for the Health Insurance Portability and Accountability Act of 1996 (HIPAA): Authority under Section 205(d) of the Social Security Act (42 U.S.C. 405(d)), with authority to redelegate, to issue subpoenas requiring the attendance and testimony of witnesses and the production of any evidence that relates to any matter under investigation or compliance review for failure to comply with the Health Insurance Portability and Accountability Act of 1996 (HIPAA) standards and requirements related at 45 CFR parts 160, 162 and 164 (except to the extent they pertain to the standards for privacy of individually identifiable health information).

Section 1176(a)(2) of the Social Security Act, 42 U.S.C. 1320d-5(a)(2), which provides authority for the imposition of civil money penalties (CMPs) for violations, makes section 1128A of the Social Security Act, 42 U.S.C. 1320a-7a, applicable to the imposition of CMPs for violations of HIPAA administrative simplification standards. Section 1128A(j)(1), 42 U.S.C. 1320a-7a(j)(l), makes section 205(d) and (e) of the Social Security Act, 42 U.S.C. 405(d) and (e), applicable to section 1128A as the subsections are with respect to Title II of the Social Security Act. Section 205(d) and (e) authorizes the issuance of subpoenas requiring the attendance and testimony of witnesses and the production of any evidence that relates to any matter under investigation by the Secretary and the enforcement of such a subpoena in court in event of refusal to comply.

This delegation shall be exercised under the Department's existing delegation of authority on the issuance of regulations and existing policy on the issuance of regulations.

In addition, I hereby affirm and ratify any actions taken by the Administrator of the Centers for Medicare and Medicaid Services, or his subordinates which involved the exercise of the authority delegated herein prior to the effective date of this delegation.

This delegation is effective immediately.

Michael O. Leavitt,
Secretary.

[FR Doc. 07-1871 Filed 4-13-07; 8:45 am]

BILLING CODE 4120-03-M